DEPARTMENT OF THE INTERIOR

National Park Service

[NPS-WASO-NAGPRA-19355;PPWOCRADN0-PCU00RP14.R50000]

Notice of Intent To Repatriate Cultural Items: Thomas Burke Washington State Museum, University of Washington, Seattle, WA

AGENCY: National Park Service, Interior.

ACTION: Notice.

SUMMARY: The Thomas Burke Memorial Washington State Museum, University of Washington (Burke Museum), in consultation with the appropriate Indian tribes or Native Hawaiian organizations, has determined that the cultural items listed in this notice meet the definition of unassociated funerary objects. Lineal descendants or representatives of any Indian tribe or Native Hawaiian organization not identified in this notice that wish to claim these cultural items should submit a written request to the Burke Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Burke Museum at the address in this notice by November 16, 2015.

ADDRESSES: Peter Lape, Burke Museum, University of Washington, Box 353010, Seattle, WA 98195, telephone (206) 685-3849 x2, email plape@uw.edu.

SUPPLEMENTARY INFORMATION: Notice is here given in accordance with the Native American Graves Protection and Repatriation Act (NAGPRA), 25 U.S.C. 3005, of the intent to repatriate cultural items under the control of the Burke Museum, University of Washington, Seattle, WA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In the late 19th or early 20th century, three cultural objects were removed from near the mouth of the Columbia River in the vicinity of sites 45-PC-25/45-PC-4, a known Chinook village and cemetery in Pacific County, WA. The objects were removed by the property owner and donated to the University of Washington Anthropology Department in 1959, and subsequently accessioned by the Burke Museum in 1964 (Accn. #1964-146). The three unassociated funerary objects include one lot of glass and shell beads and two copper rod bracelets. Sites 45-PC-25/45-PC-4 were identified as a village site and cemetery by Hudziak and Smith in 1948, and by Robert Cook in 1955. Cook documented these objects being in the possession of the property owner at the time he documented the site.

Sites 45-PC-25 and 45-PC-4 are located on the north bank of the Columbia River near the mouth of the river, in Pacific County, WA. Site 45-PC-25 is a village site and site 45-PC-4 is an adjacent burial ground. The objects documented from site 45-PC-4 include beads. Funerary objects found in burials at a nearby site include copper metal bracelets and blue and white glass trade beads that are similar to the objects listed above. Additionally, information provided during consultation indicates that these objects are consistent with funerary objects typically found in Chinook territory. Sites 45-PC-25 and 45-PC-4 are within an area of a known historic Chinook village, in the traditional aboriginal territory of the Lower Chinook people. According to historical and anthropological sources (Kidd, 1967; Mooney, 1896; Ray, 1938; Ruby 1986; Spier, 1936; Suttles 1990), as well as information provided during consultation, the aboriginal territory of the Lower Chinook people included the northern bank of the Columbia River mouth and lands north along the shore and into Willapa Bay. The people of this area spoke a Chinook dialect and were linguistically separate from other Chinook who lived farther up the Columbia River (Suttles, 1990). Today the Chinook people are members of the Shoalwater Bay Indian Tribe of the Shoalwater Bay Indian Reservation (previously listed as the Shoalwater Bay Tribe of the Shoalwater Bay Indian Reservation, Washington), and the Chinook Indian Tribe, a non-federally recognized Indian group represented by the Shoalwater Bay Indian Tribe of the Shoalwater Bay Indian Reservation (previously listed as the Shoalwater Bay Tribe of the Shoalwater Bay Indian Reservation, Washington).

Determinations Made by the Burke Museum

Officials of the Burke Museum have determined that:

• Pursuant to 25 U.S.C. 3001(3)(B), the three cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and Shoalwater Bay Indian Tribe of the Shoalwater Bay Indian Reservation (previously listed as the Shoalwater Bay Tribe of the Shoalwater Bay Indian Reservation, Washington).

Additional Requestors and Disposition

Lineal descendants or representatives of any Indian tribe or Native Hawaiian organization not identified in this notice that wish to claim these cultural items should submit a written request with information in support of the claim to Peter Lape, Burke Museum, University of Washington, Box 353010, Seattle, WA 98195, telephone (206) 685-3849 x2, email plape@uw.edu, by November 16, 2015. After that date, if no additional claimants have come forward, transfer of control of the unassociated funerary objects to Shoalwater Bay Indian Tribe of the Shoalwater Bay Indian Reservation (previously listed as the Shoalwater Bay Tribe of the Shoalwater Bay Indian Reservation, Washington) may proceed.

The Burke Museum is responsible for notifying the Confederated Tribes of the Chehalis Reservation, Washington and Shoalwater Bay Tribe of the Shoalwater Bay Indian Reservation (previously listed as the Shoalwater Bay Tribe of the Shoalwater Bay Indian Reservation, Washington), that this notice has been published.

Dated: September 17, 2015.
Melanie O'brien,
Manager, National NAGPRA Program.

[FR Doc. 2015-26296 Filed 10-14-15; 8:45 am]

BILLING CODE 4312-50-P